DEPARTMENT OF ENERGY

Federal Energy Regulatory Commission

Combined Notice of Filings #1

Take notice that the Commission received the following electric corporate filings:

Docket Numbers: EC23-142-000.

Applicants: EF Oxnard LLC.

Description: Application for Authorization Under Section 203 of the Federal Power Act of EF Oxnard LLC.

Filed Date: 9/29/23.

Accession Number: 20230929-5368.

Comment Date: 5 p.m. ET 10/20/23.

Take notice that the Commission received the following exempt wholesale generator filings:

Docket Numbers: EG24-1-000.

Applicants: Nova Power, LLC.

Description: Nova Power, LLC submits Notice of Self-Certification of Exempt Wholesale Generator Status.

Filed Date: 10/3/23.

Accession Number: 20231003-5125.

Comment Date: 5 p.m. ET 10/24/23.

Take notice that the Commission received the following Complaints and Compliance filings in EL Dockets:.

Docket Numbers: EL23-122-000.

Applicants: Bottlebrush Solar Energy LLC and Pleasant Prairie Solar Energy LLC v. PJM Interconnection, L.L.C.

Description: Complaint of Bottlebrush Solar Energy LLC et al. v. PJM Interconnection, L.L.C.

Filed Date: 9/29/23.

Accession Number: 20230929-5360.

Comment Date: 5 p.m. ET 10/19/23.

Take notice that the Commission received the following electric rate filings:

Docket Numbers: ER23-2449-001.

Applicants: Lyons Solar, LLC.

Description: Tariff Amendment: Response to Deficiency Letter to be effective 10/1/2023.

Filed Date: 10/3/23.

Accession Number: 20231003-5058.

Comment Date: 5 p.m. ET 10/24/23.

Docket Numbers: ER24-11-000.

Applicants: AEP Texas Inc.

Description: § 205(d) Rate Filing: AEPTX-Oncor 6th A&R Interconnection Agreement to be effective 9/28/2023.

Filed Date: 10/3/23.

Accession Number: 20231003-5097.

Comment Date: 5 p.m. ET 10/24/23.

Docket Numbers: ER24-12-000.

Applicants: Arizona Public Service Company.

Description: § 205(d) Rate Filing: Service Agreement No. 405, Amendment No. 1 to be effective 12/3/2023.

Filed Date: 10/3/23.

Accession Number: 20231003-5101.

Comment Date: 5 p.m. ET 10/24/23.

Docket Numbers: ER24-13-000.

Applicants: AEP Texas Inc.

Description: § 205(d) Rate Filing: AEPTX-Citrus Flatts Energy Center Generation Interconnection Agreement to be effective 9/8/2023.

Filed Date: 10/3/23.

Accession Number: 20231003-5104.

Comment Date: 5 p.m. ET 10/24/23.

Docket Numbers: ER24-14-000.

Applicants: Midcontinent Independent System Operator, Inc., Otter Tail Power Company.

Description: § 205(d) Rate Filing: Midcontinent Independent System Operator, Inc. submits tariff filing per 35.13(a)(2)(iii: 2023-10-03_SA 3713 Termination of WAPA-OTP FCA (Devils Lake) to be effective 10/4/2023.

Filed Date: 10/3/23.

Accession Number: 20231003-5106.

Comment Date: 5 p.m. ET 10/24/23.

Take notice that the Commission received the following electric securities filings:

Docket Numbers: ES24-1-000.

Applicants: Baltimore Gas and Electric Company.

Description: Application Under Section 204 of the Federal Power Act for Authorization to Issue Securities of Baltimore Gas and Electric Company.

Filed Date: 10/2/23.

Accession Number: 20231002-5377.

Comment Date: 5 p.m. ET 10/23/23.

Docket Numbers: ES24-2-000; ES24-3-000.

Applicants: Delmarva Power & Light Company, Potomac Electric Power Company, Delmarva Power & Light Company, Potomac Electric Power Company.

Description: Application Under Section 204 of the Federal Power Act for Authorization to Issue Securities of Delmarva Power & Light Company, et al.

Filed Date: 10/2/23.

Accession Number: 20231002-5378.

Comment Date: 5 p.m. ET 10/23/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 3, 2023.
Debbie-Anne A. Reese,
Deputy Secretary.

[FR Doc. 2023-22400 Filed 10-6-23; 8:45 am]

BILLING CODE 6717-01-P